DEPARTMENT OF COMMERCE

International Trade Administration

[A-580-876]

Welded Line Pipe From the Republic of Korea: Amended Final Results of Antidumping Duty Administrative Review in Part; 2020-2021

AGENCY: Enforcement and Compliance, International Trade Administration, Department of Commerce.

SUMMARY: The U.S. Department of Commerce (Commerce) is amending the final results of the administrative review of the antidumping duty order on welded line pipe from the Republic of Korea to correct certain ministerial errors. The period of review (POR) is December 1, 2020, through November 30, 2021.

DATES: Applicable August 4, 2023.

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

Background

On June 30, 2023, Commerce published the Final Results in the Federal Register.¹ On July 3, 2023, we received a timely submitted ministerial error allegation from SeAH Steel Corporation (SeAH).² We are amending the Final Results to correct the ministerial errors raised by SeAH.

¹ See Welded Line Pipe from the Republic of Korea: Final Results of Antidumping Duty Administrative Review; 2020-2021, 88 FR 42295 (June 30, 2023) (Final Results) and accompanying Issues and Decision Memorandum (IDM).

² See SeAH's Letter, “Comments on Ministerial Errors in the Final Determination,” dated July 3, 2023 (Ministerial Error Comments).

Legal Framework

Section 751(h) of the Tariff Act of 1930, as amended (the Act), defines a “ministerial error” as including “errors in addition, subtraction, or other arithmetic function, clerical errors resulting from inaccurate copying, duplication, or the like, and any other unintentional error which the administering authority considers ministerial.” ³ With respect to final results of administrative reviews, 19 CFR 351.224(e) provides that Commerce “will analyze any comments received and, if appropriate, correct any . . . ministerial error by amending the final results of review . . . .”

³ See 19 CFR 351.224(f).

Ministerial Errors

In the Final Results, we made certain revisions to SeAH's preliminary results calculations,⁴ including: (1) adjustments to SeAH's affiliate State Pipe & Supply, Inc.'s (State Pipe's) further manufacturing general and administrative (G&A) expense ratio; ⁵ (2) revisions to SeAH's G&A expense ratio; ⁶ and (3) revisions to SeAH's financial expense ratio.⁷ In its Ministerial Error Comments, SeAH alleged that, in revising State Pipe's G&A expense ratio, Commerce included certain adjustments that it rejected in the Final Results. SeAH also alleged that in the comparison market and margin programs, Commerce failed to multiply SeAH's G&A and financial expense ratios by SeAH's total cost of manufacturing (COM) to determine the G&A and financial expenses included in SeAH's total cost of production.⁸

⁴ See Memorandum, “SeAH Final Calculation Memorandum,” dated June 26, 2023.

⁵ See Final Results IDM at Comment 12.

⁶ Id. at Comment 7.

⁷ Id. at Comment 8.

⁸ See Ministerial Error Comments at 2-4.

We agree with SeAH that we made ministerial errors in the Final Results pursuant to section 751(h) of the Act and 19 CFR 351.224(f) and have amended our calculations to correct State Pipe's G&A expense ratio and to apply SeAH's G&A and financial expense ratios to total COM in the comparison market and margin programs.

Pursuant to 19 CFR 351.224(e), we are amending the Final Results to correct these ministerial errors in the calculation of the weighted-average dumping margin for SeAH, which changes from 4.23 percent to 4.17 percent.

For a complete discussion of the ministerial error allegations, as well as Commerce's analysis, see the accompanying Ministerial Error Memorandum.⁹ The Ministerial Error Memorandum is a public document and is on file electronically via ACCESS. ACCESS is available to registered users at https://access.trade.gov.

⁹ See Memorandum, “Analysis of Ministerial Error Allegations,” dated concurrently with, and hereby adopted by, this notice (Ministerial Error Memorandum); see also Memorandum, “Calculations for SeAH Steel Corporation for the Amended Final Results,” dated concurrently with this notice.

Furthermore, we are also amending the rate for the companies not selected for individual examination in this review based on the weighted-average dumping margins calculated for the mandatory respondents,¹⁰ which changes from 3.27 percent to 3.24 percent.¹¹

¹⁰ The margin for the other mandatory respondent, NEXTEEL Co., Ltd. (NEXTEEL), remains unchanged from the Final Results and continues to be 2.38 percent.

¹¹ See Memorandum, “Calculation of the Amended Final Cash Deposit Rate for Non-Selected Companies,” dated concurrently with this notice.

Amended Final Results of Review

As a result of correcting the ministerial errors described above, we determine the following weighted-average dumping margins for the period December 1, 2020, through November 30, 2021:

¹² See Appendix for a full list of these companies.

Exporter or producer | Weighted- average dumping margin (percent)
SeAH Steel Corporation | 4.17
Companies Not Selected for Individual Review ¹² | 3.24

Disclosure

We intend to disclose the calculations performed in connection with these amended final results of review to parties in this review within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the amended final results of this review.

SeAH did not report the actual entered value for all of its U.S. sales; in such instances, we calculated importer-specific per-unit duty assessment rates by aggregating the total amount of antidumping duties calculated for the examined sales and dividing this amount by the total quantity of those sales. NEXTEEL's dumping margin did not change in these amended results; therefore, we continue to calculate importer-specific ad valorem duty assessment rates based on the ratio of the total amount of dumping calculated for the examined sales to the total entered value of the sales for which entered value was reported. Where an importer-specific assessment rate is zero or de minimis, we will instruct CBP to liquidate the appropriate entries without regard to antidumping duties.

For the companies not selected for individual review, we used an assessment rate based on the weighted average of the cash deposit rates calculated for NEXTEEL and SeAH. The amended final results of this review shall be the basis for the assessment of antidumping duties on entries of merchandise covered by the amended final results of this review and for the future deposits of estimated duties where applicable.¹³

¹³ See section 751(a)(2)(C) of the Act.

Commerce's “automatic assessment” practice will apply to entries of subject merchandise during the POR produced by SeAH for which it did not know that the merchandise it sold to an intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following amended cash deposit requirements will be effective for all shipments of the subject merchandise entered, or withdrawn from warehouse, for consumption on or after June 30, 2023, the publication date of the Final Results, as provided by section 751(a)(2)(C) of the Act: (1) the amended cash deposit rate for the companies listed above will be equal to the weighted-average dumping margin established in these amended final results of review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other manufacturers or exporters will continue to be 4.38 percent, the all-others rate established in the less-than-fair-value investigation.¹⁴ These cash deposit requirements, when imposed, shall remain in effect until further notice.

¹⁴ See Welded Line Pipe from the Republic of Korea and the Republic of Turkey: Antidumping Duty Orders, 80 FR 75056, 75057 (December 1, 2015).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: July 31, 2023.
Lisa W. Wang,
Assistant Secretary for Enforcement and Compliance.

Appendix

List of Companies Not Selected for Individual Examination Receiving the Review-Specific Rate

1. AJU BESTEEL Co., Ltd.

2. BDP International, Inc.

3. Daewoo International Corporation

4. Dong Yang Steel Pipe

5. Dongbu Incheon Steel Co.

6. Dongbu Steel Co., Ltd.

7. Dongkuk Steel Mill

8. EEW Korea Co., Ltd.

9. Husteel Co., Ltd.

10. Hyundai RB Co. Ltd.

11. Hyundai Steel Company/Hyundai HYSCO

12. Kelly Pipe Co., LLC

13. Keonwoo Metals Co., Ltd.

14. Kolon Global Corp.

15. Korea Cast Iron Pipe Ind. Co., Ltd.

16. Kurvers Piping Italy S.R.L.

17. Miju Steel MFG Co., Ltd.

18. MSTEEL Co., Ltd.

19. Poongsan Valinox (Valtimet Division)

20. POSCO

21. POSCO Daewoo

22. R&R Trading Co. Ltd.

23. Sam Kang M&T Co., Ltd.

24. Sin Sung Metal Co., Ltd.

25. SK Networks

26. Soon-Hong Trading Company

27. Steel Flower Co., Ltd.

28. TGS Pipe

29. Tokyo Engineering Korea Ltd.

[FR Doc. 2023-16687 Filed 8-3-23; 8:45 am]

BILLING CODE 3510-DS-P